DEPARTMENT OF LABOR

Employment and Training Administration

Determinations Regarding Eligibility To Apply for Trade Adjustment Assistance

In accordance with Sections 223 and 284 (19 U.S.C. 2273 and 2395) of the Trade Act of 1974 (19 U.S.C. 2271, et seq.) (“Act”), as amended, the Department of Labor herein presents summaries of determinations regarding eligibility to apply for trade adjustment assistance under Chapter 2 of the Act (“TAA”) for workers by (TA-W) issued during the period of August 1 2021 through August 31 2021.

This notice includes summaries of initial determinations such as Affirmative Determinations of Eligibility, Negative Determinations of Eligibility, and Determinations Terminating Investigations of Eligibility within the period. If issued in the period, this notice also includes summaries of post-initial determinations that modify or amend initial determinations such as Affirmative Determinations Regarding Applications for Reconsideration, Negative Determinations Regarding Applications for Reconsideration, Revised Certifications of Eligibility, Revised Determinations on Reconsideration, Negative Determinations on Reconsideration, Revised Determinations on remand from the Court of International Trade, and Negative Determinations on remand from the Court of International Trade.

Affirmative Determinations for Trade Adjustment Assistance

The following certifications have been issued.

TA-W No. | Workers' firm | Location | Reason(s)
96061 | Daramic LLC | Corydon, IN | Shift in Production to a Foreign Country.
96593 | Sodecia | Lake Orion, MI | Shift in Production to a Foreign Country.
96742 | Honeywell | South Bend, IN | Secondary Component Supplier.
96746 | Ascension Technologies | Troy, MI | Acquisition of Services from a Foreign Country.
96752 | Micro Contacts, Inc. DBA Micro Technologies | Hicksville, NY | Shift in Production to a Foreign Country.
96782 | ABB Enterprise Software (aka Hitachi ABB Power Grids) | Mount Pleasant, PA | Shift in Production to a Foreign Country.
96826 | Mitsubishi Chemical America Inc | Nederland, TX | Acquisition of Articles from a Foreign Country.
96832 | STTS USA, Inc. | Portland, OR | Downstream Producer.
96860 | Synchrony Bank | Stamford, CT | Shift in Services to a Foreign Country.
96860E | Synchrony Bank | Saint Paul, MN | Shift in Services to a Foreign Country.
96866 | nference, inc | Cambridge, MA | Customer Imports of Services.
96870 | Bright Wood Corporation | Redmond, OR | Secondary Service Supplier.
96870A | Bright Wood Corporation | Prineville, OR | Secondary Service Supplier.
96901 | Bedford Industries | Worthington, MN | ITC Determination.
96912 | Certech, Inc | Wood Ridge, NJ | Shift in Production to a Foreign Country.
96918 | T.D.R.N. Inc | Spalding, MI | Customer Imports of Articles.
96920 | Stanley Furniture Company LLC | Martinsville, VA | Shift in Services to a Foreign Country.
96930 | Aleris Rolled Products, Inc | Uhrichsville, OH | ITC Determination.
96930A | Aleris Rolled Products, Inc | Ashville, OH | ITC Determination.
96932 | Dun & Bradstreet Corporation | Center Valley, PA | Shift in Services to a Foreign Country.
96935 | Prudential Financial | Dubuque, IA | Acquisition of Services from a Foreign Country.
96937 | Prudential Financial | Hartford, CT | Acquisition of Services from a Foreign Country.
96945 | Unum Group | Portland, ME | Acquisition of Services from a Foreign Country.
96947 | Collins Aerospace | Jamestown, ND | Secondary Component Supplier.
96960 | Signify | Tupelo, MS | Shift in Production to a Foreign Country.
96967 | Data Axle (formerly Infogroup) | Papillion, NE | Shift in Services to a Foreign Country.
96970 | TCI Texarkana, Inc. dba Texarkana Aluminum | Texarkana, TX | ITC Determination.
96980 | Mars Global Services | Hackettstown, NJ | Acquisition of Services from a Foreign Country.
96985 | Tupelo Sleeper | Tupelo, MS | ITC Determination.
96997 | Arconic Corporation | Riverdale, IA | ITC Determination.
97021 | Microchip Technology, Inc | Gresham, OR | Imports of Finished Articles Containing Like or Directly Competitive Components.
97030 | Liberty Mutual Group Inc | Dover, NH | Acquisition of Services from a Foreign Country.
97031 | McKesson Medical-Surgical Inc | Plymouth, MN | Acquisition of Services from a Foreign Country.
97033 | IKO Production Inc | Wilmington, DE | Shift in Production to a Foreign Country.
97045 | Durr Universal, Inc | Muscoda, WI | Shift in Production to a Foreign Country.
97046 | QVC, Inc | West Chester, PA | Shift in Services to a Foreign Country.
97047 | ALSTOM | Plattsburgh, NY | Shift in Production to a Foreign Country.
97052 | Briggs & Stratton LLC | Wauwatosa, WI | ITC Determination.
97060 | EnerVest Operating, LLC | Houston, TX | Secondary Service Supplier.
97062 | Energizer Manufacturing, Inc | Bennington, VT | Shift in Production to a Foreign Country.
97067 | Tranter, Inc | Wichita Falls, TX | Shift in Production to a Foreign Country.
97071 | Collins Aerospace | Vergennes, VT | Secondary Component Supplier.
97074 | Lee Aerospace, Inc | Wichita, KS | Secondary Component Supplier.
97076 | NTT DATA Services, LLC | Plano, TX | Shift in Services to a Foreign Country.
97078 | Kimberly-Clark Corporation | Conway, AR | Shift in Production to a Foreign Country.
97079 | AW Industries, Inc | Hyattsville, MD | ITC Determination.
97081 | Hospitality Mints, LLC | Boone, NC | Shift in Production to a Foreign Country.
97083 | Sunset Moulding Co | Chico, CA | ITC Determination.
97083A | Sunset Moulding Co | Live Oak, CA | ITC Determination.
97085 | Novelis Corporation | Oswego, NY | ITC Determination.
97086 | Serta Simmons Bedding Manufacturing | Jamestown, NY | ITC Determination.
97088 | KYOCERA SENCO Industrial Tools, Inc | Cincinnati, OH | ITC Determination.
97091 | TimkenSteel Corporation | Canton, OH | ITC Determination.
97092 | Marmon Foodservice Technologies Inc., d.b.a. Silver King | Minneapolis, MN | Shift in Production to a Foreign Country.
97093 | Medtronic | Minneapolis, MN | Shift in Services to a Foreign Country.
97100 | Acme Staple Company, Inc. | Franklin, NH | ITC Determination.
97105 | Aleris Rolled Products, Inc | Richmond, VA | ITC Determination.
97113 | NETZSCH Premier Technologies, LLC | Exton, PA | Shift in Production to a Foreign Country.
97121 | SSB Manufacturing Company | West Coxsackie, NY | ITC Determination.
97122 | Sierra Pacific Industries | Red Bluff, CA | ITC Determination.
97122A | Sierra Pacific Industries | Corning, CA | ITC Determination.
97123 | Yuba River Moulding and Millwork, Inc | Olivehurst, CA | ITC Determination.
98018 | Prismview LLC | Logan, UT | Shift in Production to an FTA Country or Beneficiary.

Negative Determinations for Trade Adjustment Assistance

The following investigations revealed that the eligibility criteria for TAA have not been met for the reason(s) specified.

TA-W No. | Workers' firm | Location | Reason(s)
95810 | Papyrus Stationary | St. Louis, MO | No Shift in Services or Other Basis.
95829 | Baxalta US Inc | Thousand Oaks, CA | No Shift in Production or Other Basis.
96639 | Pratt & Whitney Engine Services, Inc. | Wichita, KS | No Shift in Services or Other Basis.
96745 | EFCO Corporation | Springfield, MO | No Shift in Production or Other Basis.
96745A | EFCO Corporation | Springfield, MO | No Shift in Production or Other Basis.
96782A | ABB Enterprise Software (aka Hitachi ABB Power Grids) | Greensburg, PA | No Shift in Production or Other Basis.
96794 | The Register Guard | Eugene, OR | No Shift in Production or Other Basis.
96853 | Mondelez Global LLC Atlanta Bakery | Atlanta, GA | No Sales or Production Decline or Other Basis.
96859 | Woodgrain | La Grande, OR | No Sales or Production Decline or Other Basis.
96868 | Colorado Oil & Gas Association | Denver, CO | No Shift in Services or Other Basis.
96870B | Bright Wood Corporation | Culver, OR | No Employment Decline or Threat of Separation or ITC.
96888 | PCC Aerostructures | Wilkes Barre, PA | No Shift in Production or Other Basis.
96894 | Vestas-American Wind Technology, Inc | Portland, OR | No Sales or Service Decline or Other Basis.
96964 | GE Aviation | Hooksett, NH | No Shift in Production or Other Basis.
96981 | Leadec Corporation | Blue Ash, OH | No Sales or Service Decline or Other Basis.
96989 | GE Aviation | Newark, DE | No Sales or Production Decline or Other Basis.
96995 | Baker Hughes Oilfield, LLC | Prudhoe Bay, AK | No Shift in Services or Other Basis.
97002 | Arconic Mill Products | Elmendorf, TX | No Employment Decline or Threat of Separation or ITC.
97016 | National Life Insurance Company | Montpelier, VT | No Shift in Services or Other Basis.
97019 | Tenneco Inc | Jeffersonville, IN | No Sales or Production Decline or Other Basis.
97020 | Demetech Corporation | Miami Lakes, FL | No Sales or Production Decline or Other Basis.
97029 | Eastern Sleep Products Company | North Chesterfield, VA | No Sales or Production Decline or Other Basis.
97049 | GE Aviation | Rutland, VT | No Shift in Production or Other Basis.
97065 | GE Aviation | Batesville, MS | No Shift in Production or Other Basis.
97068 | GE Aviation | Arkansas City, KS | No Shift in Production or Other Basis.
97094 | Exostar LLC | Herndon, VA | No Sales or Service Decline or Other Basis.
98000 | Malteurop North America, Inc | Milwaukee, WI | No Sales or Production Decline/Shift in Production (Domestic Transfer).

Determinations Terminating Investigations for Trade Adjustment Assistance

The following investigations were terminated for the reason(s) specified.

TA-W No. | Workers' firm | Location | Reason(s)
96860A | Synchrony Bank | Alpharetta, GA | Existing Certification in Effect.
96860B | Synchrony Bank | Charlotte, NC | Existing Certification in Effect.
96860C | Synchrony Bank | Kettering, OH | Existing Certification in Effect.
96860D | Synchrony Bank | Phoenix, AZ | Existing Certification in Effect.
96872 | Allegheny Wood Products, Inc | Beckley, WV | Petitioner Requests Withdrawal.
96872A | Allegheny Wood Products, Inc | Coalton, WV | Petitioner Requests Withdrawal.
96880 | Ascension Technologies | Saint Louis, MO | Existing Certification in Effect.
96924 | Mondelez International Inc. Atlanta Bakery | Atlanta, GA | Negative Determination Recently Issued.
96983 | HP Inc—Puerto Rico | Aguadilla, PR | Existing Certification in Effect.
97116 | Peak Oilfield Service Company | Prudhoe Bay, AK | Ongoing Investigation in Process.

Negative Determinations on Reconsideration

The following negative determinations on reconsideration have been issued because the eligibility criteria for TAA have not been met for the reason(s) specified.

TA-W No. | Workers' firm | Location | Reason(s)
96717 | Comprehensive Decommissioning International | Plymouth, MA | No Shift in Services or Other Basis.

I hereby certify that the aforementioned determinations were issued during the period of August 1 2021 through August 31 2021. These determinations are available on the Department's website https://www.dol.gov/agencies/eta/tradeact under the searchable listing determinations or by calling the Office of Trade Adjustment Assistance toll free at 888-365-6822.

Signed at Washington, DC, this 17th day of September 2021.
Hope D. Kinglock,
Certifying Officer, Office of Trade Adjustment Assistance.

[FR Doc. 2021-20953 Filed 9-27-21; 8:45 am]

BILLING CODE 4510-FN-P